DEPARTMENT OF THE INTERIOR

National Park Service

[NPS-WASO-NAGPRA-23560; PPWOCRADN0-PCU00RP15.R50000]

Native American Graves Protection and Repatriation Review Committee; Postponement of Meeting

AGENCY: National Park Service, Interior.

ACTION: Notice.

SUMMARY: The July 2017 Native American Graves Protection and Repatriation Review Committee meeting has been postponed.

DATES: The meeting via teleconference scheduled for July 11, 2017, will be rescheduled at a later date. We will publish a future notice with new meeting date and location.

FOR FURTHER INFORMATION CONTACT: Melanie O'Brien, Designated Federal Officer, Native American Graves Protection and Repatriation Review Committee, National NAGPRA Program (2253), National Park Service, 1849 C Street NW., Room 7360, Washington, DC 20240, (202) 354-2201 or via email nagpra_dfo@nps.gov.

SUPPLEMENTARY INFORMATION: The 7-member Review Committee monitors and reviews the implementation of the inventory and identification processes and repatriation activities under Sections 5, 6, and 7 of the Native American Graves Protection and Repatriation Act of 1990.

Additional information is available in the meeting notice published on October 21, 2016 (81 FR 72827).

Authority: 25 U.S.C. 3006a-i; 5 U.S.C. Appendix 1-16.

Alma Ripps,
Chief, Office of Policy.

[FR Doc. 2017-16643 Filed 8-7-17; 8:45 am]

BILLING CODE 4312-52-P